DEPARTMENT OF DEFENSE

Department of the Navy

Notice of Proposed Administrative Cost Recovery Settlement Pursuant to the Comprehensive Environmental Response, Compensation and Liability Act For Response Costs Incurred at Marine Corps Logistics Base Barstow, CA

AGENCY: Department of the Navy, DoD.

ACTION: Notice.

SUMMARY: In accordance with Section 122(h) of the Comprehensive Environmental Response, Compensation, and Liability Act (CERCLA), 42 U.S.C. 9622(h), the Department of the Navy (DoN) gives notice that a proposed Administrative Agreement for the Recovery of Past Costs in the Matter of Marine Corps Logistics Base, Yermo Annex, Barstow, California, DON CERCLA Administrative Docket No. 2011-0001, pertaining to environmental contamination at the Marine Corps Logistics Base in Barstow, California (the “Site”), located in San Bernardino County, California. In this matter, the DoN served a demand, involving civil claims under Section 107 of CERCLA, 42 U.S.C. 9607, upon CalNev Pipe Line Company (CalNev) for recovery of response costs incurred by the DON at the Site.

The proposed Administrative Settlement resolves the DON's claims by requiring CalNev to pay the DoN $500,000 in reimbursement of the DON's past response costs. Pursuant to Section 122(h) of CERCLA, 42 U.S.C. 9622(h), the Department of Justice has provided its approval of this proposed Administrative Settlement. Further, in accordance with this Section 122(i) of CERCLA, 42 U.S.C. 9622(i), the DoN is receiving public comment on this proposed settlement for thirty (30) days from the date of this publication. Comments should be addressed to the Associate General Counsel (Litigation), United States Department of Navy, Office of General Counsel, 720 Kennon St. SE., Bldg. 36, Rm. 233, Washington, DC 20374-5013 or e-mailed to page.turney@navy.mil and should refer to The Matter of Marine Corps Logistics Base, Yermo Annex, Barstow, California, DON CERCLA Administrative Docket No. 11-0001.

A copy of the proposed Administrative Settlement may be either obtained from J. Page Turney or examined at: United States Department of Navy, Office of General Counsel, 720 Kennon St. SE., Bldg. 36, Rm. 233, Washington, DC 20374-5013. Contact: J. Page Turney: 202-685-6947; page.turney@navy.mil.

Dated: August 24, 2011.
J. M. Beal,
Lieutenant Commander, Judge Advocate General's Corps, U.S. Navy, Federal Register Liaison Officer.

[FR Doc. 2011-22262 Filed 8-30-11; 8:45 am]

BILLING CODE 3810-FF-P